CONSUMER PRODUCT SAFETY COMMISSION

Sunshine Act Meeting

Time and Date: Wednesday, February 5, 2014, 9 a.m.-11 a.m.

Place: Hearing Room 420, Bethesda Towers, 4330 East-West Highway, Bethesda, Maryland.

Status: Commission Meeting—Open to the Public.

Matters to be Considered: Briefing Matter: Infant Stroller Final Rule (Sec. 104).

A live webcast of the Meeting can be viewed at www.cpsc.gov/live.

For a recorded message containing the latest agenda information, call (301) 504-7948.

CONTACT PERSON FOR MORE INFORMATION: Todd A. Stevenson, Office of the Secretary, U.S. Consumer Product Safety Commission, 4330 East-West Highway, Bethesda, MD 20814, (301) 504-7923.

Dated: January 28, 2014.
Todd A. Stevenson,
Secretary.

[FR Doc. 2014-02024 Filed 1-28-14; 4:15 pm]

BILLING CODE 6355-01-P